DEPARTMENT OF HOMELAND SECURITY

United States Immigration and Customs Enforcement

Agency Information Collection Activities: Extension of a Currently Approved Information Collection

ACTION: Correction to Notice of Information Collection Under Review; Form I-246, Application for Stay of Deportation or Removal, OMB No. 1653-0021.

SUMMARY: The Department of Homeland Security, U.S. Immigration and Customs Enforcement (USICE), has submitted the following information collection request for review and clearance in accordance with the Paperwork Reduction Act of 1995. The information collection was previously published in the Federal Register on March 26, 2008, Vol. 73, No. 59 16035, and on June 2, 2008, Vol. 73, No. 106 31499. This document contains corrections to certain portions of those notices that were published erroneously.

Correction

• In the Overview of This Information Collection section, Item 1 is corrected as follows: Type of Information Collection: Extension of currently approved information collection.

• In the Overview of This Information Collection section, Item 5 is corrected as follows: An estimate of the total number of respondents and the amount of time estimated for an average respondent to respond: 10,000 responses at 30 minutes (0.5 hours) per response.

• In the Overview of This Information Collection section, Item 6 is corrected as follows: An estimate of the total public burden (in hours) associated with the collection: 5,000 annual burden hours.

Dated: August 11, 2008.
Lee Shirkey,
Chief, Records Management Branch Chief, United States Immigration and Customs Enforcement, Department of Homeland Security.

[FR Doc. E8-18816 Filed 8-13-08; 8:45 am]

BILLING CODE 9111-28-P